DEPARTMENT OF THE INTERIOR

Bureau of Land Management

[LLWY-9570000-15-L13100000-PP0000]

Filing of Plats of Survey, Wyoming and Nebraska

AGENCY: Bureau of Land Management, Interior.

ACTION: Notice.

SUMMARY: The Bureau of Land Management (BLM) has filed the plats of survey of the lands described below in the BLM Wyoming State Office, Cheyenne, Wyoming, on the dates indicated.

FOR FURTHER INFORMATION CONTACT: Bureau of Land Management, 5353 Yellowstone Road, P.O. Box 1828, Cheyenne, Wyoming 82003.

SUPPLEMENTARY INFORMATION: These supplementals and surveys were executed at the request of the U.S. Forest Service, Bureau of Land Management, Bureau of Indian Affairs and Bureau of Reclamation and are necessary for the management of resources. The lands surveyed are:

The plats and field notes representing the dependent resurvey of portions of the north boundary, certain tracts and subdivisional lines, the survey of the subdivision of certain sections, and the metes-and-bounds survey of the Raymond Mountain Wilderness Study Area boundary, Township 25 North, Range 119 West, Sixth Principal Meridian, Wyoming, Group No. 861, was accepted February 26, 2015.

The plat and field notes representing the dependent resurvey of a portion of the south boundary and a portion of the subdivisional lines, and the survey of the subdivision of section 35, Township 26 North, Range 73 West, Sixth Principal Meridian, Wyoming, Group No. 891, was accepted February 26, 2015.

The plat and field notes representing the dependent resurvey of a portion of the east boundary, a portion of the subdivisional lines, and the survey of the subdivision of section 13, Township 29 North, Range 90 West, Sixth Principal Meridian, Wyoming, Group No. 913, was accepted February 26, 2015.

The supplemental plat showing a corrected lot number and based upon the dependent resurvey plat accepted November 17, 2008, Township 30 North, Range 108 West, Sixth Principal Meridian, Wyoming, Group No. 924, was accepted February 26, 2015.

The supplemental plat showing amended lottings and based upon the dependent resurvey plat accepted April 8, 1981 and supplemental plat accepted October 18, 1985, Township 40 North, Range 71 West, Sixth Principal Meridian, Wyoming, Group No. 925, was accepted February 26, 2015.

The supplemental plat showing amended lottings and based upon the dependent resurvey plat accepted February 7, 1980 and supplemental plat accepted September 13, 1985, Township 51 North, Range 72 West, Sixth Principal Meridian, Wyoming, Group No. 926, was accepted February 26, 2015.

The supplemental plat showing the subdivision of the SW¼SW¼NE¼NE¼ into Lots 5, 6 and 7 is based upon the Survey Plat accepted January 13, 1984, Township 1 North, Range 4 East, Wind River Meridian, Wyoming, Group No. 928, was accepted March 31, 2015.

The plat and field notes representing the dependent resurvey of portions of the Eighth Standard Parallel North, through Range 52 West, the east and west boundaries, and the subdivisional lines, the survey of the subdivision of certain sections, and the rehabilitation of the corner of sections 4, 5, 32 and 33, on the north boundary, Township 33 North, Range 52 West, of the Sixth Principal Meridian, Nebraska, Group No. 181, was accepted May 28, 2015.

The field notes representing remonumentation of the ¼ section corner of sections 25 and 30, on the Thirteenth Auxiliary Guide Meridian West, Township 31 North, between Ranges 108 and 109 West, Sixth Principal Meridian, Wyoming, Group 850, was accepted May 28, 2015.

The plats and field notes representing the dependent resurvey of portions of the north boundary, subdivisional lines, and adjusted 1909 meanders of the Green River, the survey of the subdivision of sections 4, 5, 6 and 8, and the metes-and-bounds survey of certain lots, Township 22 North, Range 110 West, Sixth Principal Meridian, Wyoming, Group No. 892, was accepted May 28, 2015.

The plat and field notes representing the dependent resurvey of a portion of the subdivisional lines and the survey of the subdivision of section 18, Township 29 North, Range 99 West, Sixth Principal Meridian, Wyoming, Group No. 901, was accepted May 28, 2015.

The plat and field notes representing the dependent resurvey of a portion of the subdivisional lines and the survey of the subdivision of section 3, Township 43 North, Range 78 West, Sixth Principal Meridian, Wyoming, Group No. 906, was accepted May 28, 2015.

The plat and field notes representing the dependent resurvey of a portion of the north boundary and subdivisional lines, and the survey of the subdivision of section 4, and the metes-and-bounds survey of lot 13, section 4, Township 18 North, Range 89 West, Sixth Principal Meridian, Wyoming, Group No. 908, was accepted May 28, 2015.

The plat and field notes representing the dependent resurvey of a portion of the Twelfth Auxiliary Guide Meridian West, through Township 33 North, a portion of the subdivisional lines, and the survey of the subdivision of section 13, Township 33 North, Range 101 West, Sixth Principal Meridian, Wyoming, Group No. 914, was accepted May 28, 2015.

The plat and field notes representing the dependent resurvey of portions of the south and west boundaries, and portions of the subdivisional lines, and the survey of the subdivision of sections 29 and 30, Township 16 North, Range 87 West, Sixth Principal Meridian, Wyoming, Group No. 920, was accepted May 28, 2015.

Copies of the preceding described plats and field notes are available to the public at a cost of $1.10 per page.

Dated: June 16, 2015.
John P. Lee,
Chief Cadastral Surveyor, Division of Support Services.

[FR Doc. 2015-15241 Filed 6-19-15; 8:45 am]

BILLING CODE 4310-22-P